FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
April 1, 2014 Thru April 30, 2014
04/01/2014
20140697 | G | Lockheed Martin Corporation; Marc Turtletaub; Lockheed Martin Corporation.
20140715 | G | Quinpario Acquisition Corp.; Jason Partners Holdings, LLC; Quinpario Acquisition Corp.
04/04/2014
20140681 | G | B/E Aerospace, Inc.; Vision Oil Tools, LLC; B/E Aerospace, Inc.
20140694 | G | Comcast Corporation; FreeWheel Media, Inc.; Comcast Corporation.
20140703 | G | Thoma Bravo Fund X, L.P.; Genstar Capital Partners V, L.P.; Thoma Bravo Fund X, L.P.
20140714 | G | Terra Firma Capital Partners III, L.P.; Suzlon Energy Limited; Terra Firma Capital Partners III, L.P.
20140717 | G | H-Food Holdings, LLC; Heartliside Holdco, LLC; H-Food Holdings, LLC.
20140718 | G | Energy XXI (Bermuda) Limited; EPL Oil, & Gas, Inc.; Energy XXI (Bermuda) Limited.
20140726 | G | KPS Special Situations Fund IV, LP; ECI Holdco, Inc.; KPS Special Situations Fund IV, LP.
04/07/2014
20140732 | G | Alfred E. Mann; MannKind Corporation; Alfred E. Mann.
04/09/2014
20140692 | G | John Wood Group PLC; A foreign JV Corporation; John Wood Group PLC.
20140706 | G | The Goldman Sachs Group, Inc.; AvePoint, Inc.; The Goldman Sachs Group, Inc.
04/11/2014
20140713 | G | CCP IX LP No. 1; SSI Pooling, L.P.; CCP IX LP No. 1.
20140719 | G | Foundation Capital VI, L.P.; Semantic Sugar, Inc.; Foundation Capital VI, L.P.
20140723 | G | Clayton, Dubilier & Rice Fund IX, L.P.; Ashland Inc.; Clayton, Dubilier & Rice Fund IX, L.P.
20140737 | G | Bala Venkataraman; Horizon Pharma, Inc.; Bala Venkataraman.
20140739 | G | TPG Partners VI-AIV, LP; The Warranty Group, Inc.; TPG Partners VI-AIV, LP.
20140742 | G | KKR 2006 Fund L.P.; Imagine Learning, Inc.; KKR 2006 Fund L.P.
20140744 | G | Andre B. Lacy; Ralco Holdings, Inc.; Andre B. Lacy.
20140752 | G | Zeus Holdings I Corp.; totes Isotoner Holdings Group, LLC; Zeus Holdings I Corp.
20140760 | G | Finlay S.p.A.; Keurig Green Mountain, Inc.; Finlay S.p.A.
20140764 | G | Glen A. Taylor; Star Tribune Media Holdings Company; Glen A. Taylor.
04/14/2014
20140758 | G | CEOF AIV Cayman, L.P.; T-II Holdings LLC; CEOF AIV Cayman, L.P.
04/15/2014
20140716 | G | Vestar Capital Partners VI, L.P.; MSCI Inc.; Vestar Capital Partners VI, L.P.
20140745 | G | Schlumberger Oilfield Holdings Limited; SES Holdings Limited; Schlumberger Oilfield Holdings Limited.
20140762 | G | TPG VI DE AIV II, L.P.; Encana Corporation; TPG VI DE AIV II, L.P.
04/16/2014
20140763 | G | TE Connectivity Ltd.; Patrick C. Simar; TE Connectivity Ltd.
20140765 | G | TE Connectivity Ltd.; Denton S. Seilhan; TE Connectivity Ltd.
04/18/2014
20140557 | G | Blackstone Capital Partners V L.P.; Companhia Provedencia Industria E Comercio; Blackstone Capital Partners V L.P.
20140600 | G | Stericycle, Inc.; Lindsay Goldberg III L.P.; Stericycle, Inc.
20140761 | G | Magellan Health Services, Inc.; Susan Petrovas; Magellan Health Services, Inc.
20140772 | G | Affiliated Managers Group, Inc.; Aviva plc; Affiliated Managers Group, Inc.
20140773 | G | AEA Investors Fund V L.P.; Forstmann Little & Co. Equity Partnership—VII, L.P.; AEA Investors Fund V L.P.
20140780 | G | Hi-Crush Partners LP; Hi-Crush Proppants LLC; Hi-Crush Partners LP.
20140782 | G | Wellspring Capital Partners V. L.P.; Pouschine Cook Capital Partners II, LP; Wellspring Capital Partners V, L.P.
20140788 | G | Select Milk Producers, Inc.; Continental Dairy Products, Inc.; Select Milk Producers, Inc.
20140789 | G | Snow Phipps II AIV, L.P.; Feradyne Outdoors, LLC; Snow Phipps II AIV, L.P.
04/21/2014
20140708 | G | Precision Castparts Corp.; Madeline J. Gussman; Precision Castparts Corp.
20140709 | G | Precision Castparts Corp.; Gerald M. Friedman; Precision Castparts Corp.
20140756 | G | Mitsui & Co., Ltd.; C. Edward Hiler; Mitsui & Co., Ltd.
20140757 | G | Nucor Corporation; C. Edward Hiler; Nucor Corporation.
20140770 | G | Connolly Superholdings, Inc.; iHealth Technologies, Inc.; Connolly Superholdings, Inc.
20140795 | G | Trivest Fund V, L.P.; Gregory C. and Welissa W. Rader; Trivest Fund V, L.P.
04/22/2014
20140722 | G | Aceto Corporation; Pack Pharmaceuticals, LLC; Aceto Corporation.
20140741 | G | Concordia Healthcare Corp.; Paul B. Manning; Concordia Healthcare Corp.
20140755 | G | L. John Doerr; Essence Group Holdings Corporation; L. John Doerr.
20140779 | G | Mr. Mark Zuckerberg; Oculus YR. Inc.; Mr. Mark Zuckerberg.
20140794 | G | SiTV Media, Inc.; The Madison Square Garden Company; SiTV Media, Inc.
04/23/2014
20140783 | G | Stratasys Ltd.; Joseph Allison; Stratasys Ltd.
20140787 | G | Joseph Allison; Stratasys Ltd.; Joseph Allison.
04/24/2014
20140728 | G | Catholic Health Initiatives; Memorial Health System of East Texas; Catholic Health Initiatives.
04/25/2014
20140743 | G | SCF-VII, L.P.; RedZone Coil Tubing, LLC; SCF-VII, L.P.
20140785 | G | The Westaim Corporation; Houston International Insurance Group, Ltd.; The Westaim Corporation.
20140804 | G | ASP VI Alternative Investments, L.P.; Wayzata Opportunities Fund II, L.P.; ASP VI Alternative Investments, L.P.
20140805 | G | ON Semiconductor Corporation; Platinum Equity Capital Partners II, L.P.; ON Semiconductor Corporation.
04/28/2014
20140792 | G | Lone Star Fund VIII (Bermuda), L.P.; DFC Global Corp.; Lone Star Fund VIII (Bermuda), L.P.
20140811 | G | Northwestern Corporation; PPL Corporation; Northwestern Corporation.
20140812 | G | American Securities Partners VI, L.P.; Morgan Stanley; American Securities Partners VI, L.P.
04/29/2014
20140777 | G | SAP AG; Madison Dearborn Capital Partners VI-A, L.P.; SAP AG.
20140781 | G | Intel Corporation; Cloudera, Inc.; Intel Corporation.
04/30/2014
20140749 | G | Celgene Corporation; Acceleron Phanna, Inc.; Celgene Corporation.
20140824 | G | TreeHouse Foods, Inc.; PFF Capital Group, Inc.; TreeHouse Foods, Inc.
20140827 | G | York Special Opportunities Fund II-A, L.P.; Fillmore WAC Management Investment, LLC; York Special Opportunities Fund II-A, L.P.

For Further Information Contact:Renee Chapman, Contact Representative or Theresa Kingsberry, Legal Assistant. Federal Trade Commission, Premerger Notification Office, Bureau of Competition, Room H-303, Washington, DC 20580, (202) 326-3100.

By direction of the Commission.
Donald S. Clark,
Secretary.

[FR Doc. 2014-10645 Filed 5-8-14; 8:45 am]

BILLING CODE 6750-01-P